DEPARTMENT OF ENERGY

Federal Energy Regulatory Commission

Combined Notice of Filings #1

Take notice that the Commission received the following exempt wholesale generator filings:

Docket Numbers: EG14-108-000.

Applicants: Roundtop Energy, LLC.

Description: Self-Certification of EWG Status of Roundtop Energy LLC.

Filed Date: 9/26/14.

Accession Number: 20140926-5078.

Comments Due: 5 p.m. ET 10/17/14.

Take notice that the Commission received the following electric rate filings:

Docket Numbers: ER14-1485-003.

Applicants: PJM Interconnection, L.L.C.

Description: Tariff Amendment per 35.17(b): Errata to Motion to Hold Captioned Docket in Abeyance under Docket No. ER14-1485 to be effective 12/31/9998.

Filed Date: 9/26/14.

Accession Number: 20140926-5146.

Comments Due: 5 p.m. ET 10/17/14.

Docket Numbers: ER14-2140-002.

Applicants: Mulberry Farm, LLC.

Description: Tariff Amendment per 35.17(b): Suppl No 2 to Baseline Filing—MBR Tariff Mulberry Farm 092514 to be effective 10/1/2014.

Filed Date: 9/26/14.

Accession Number: 20140926-5000.

Comments Due: 5 p.m. ET 10/6/14.

Docket Numbers: ER14-2141-002.

Applicants: Selmer Farm, LLC.

Description: Tariff Amendment per 35.17(b): Amdmt to Baseline—Selmer Farm, LLC 092514 to be effective9/29/2014.

Filed Date: 9/25/14.

Accession Number: 20140925-5152.

Comments Due: 5 p.m. ET 10/6/14.

Docket Numbers: ER14-2187-000; ER14-2187-003.

Applicants: Grand Ridge Energy Storage LLC.

Description: Fourth supplement to June 16, 2014 Grand Ridge Energy Storage LLC submits tariff filing.

Filed Date: 9/26/14.

Accession Number: 20140926-5119.

Comments Due: 5 p.m. ET 10/17/14.

Docket Numbers: ER14-2578-000.

Applicants: El Paso Electric Company.

Description: Tariff Cancellation per 35.17(a): OATT Additional Changes to Order 792 to be effective N/A.

Filed Date: 9/25/14.

Accession Number: 20140925-5145.

Comments Due: 5 p.m. ET 10/16/14.

Docket Numbers: ER14-2885-001.

Applicants: Seiling Wind Interconnection Services, LLC.

Description: Tariff Amendment per 35.17(b): Amendment to Seiling Int, Seiling I and Seiling II Shared Facilities Agreement to be effective 10/1/2014.

Filed Date: 9/25/14.

Accession Number: 20140925-5153.

Comments Due: 5 p.m. ET 10/16/14.

Docket Numbers: ER14-2940-000.

Applicants: PJM Interconnection, L.L.C.

Description: § 205(d) rate filing per 35.13(a)(2)(iii): Revisions to OATT re: VRR Curve Triennial Review to be effective 12/1/2014.

Filed Date: 9/25/14.

Accession Number: 20140925-5150.

Comments Due: 5 p.m. ET 10/16/14.

Docket Numbers: ER14-2941-000.

Applicants: Southern California Edison Company.

Description: § 205(d) rate filing per 35.13(a)(2)(iii): Amended SGIAs and Distribution Service Agmts with Golden Springs to be effective 9/27/2014.

Filed Date: 9/26/14.

Accession Number: 20140926-5002.

Comments Due: 5 p.m. ET 10/17/14.

Docket Numbers: ER14-2942-000.

Applicants: Avista Corporation.

Description: § 205(d) rate filing per 35.13(a)(2)(iii): FERC Rate Schedule No. 184 revised 2014 to be effective10/1/2014.

Filed Date: 9/26/14.

Accession Number: 20140926-5003.

Comments Due: 5 p.m. ET 10/17/14.

Docket Numbers: ER14-2943-000.

Applicants: Avista Corporation.

Description: Initial rate filing per 35.12 Avista Corp Service Agreement No. 544 to be effective 10/1/2014.

Filed Date: 9/26/14.

Accession Number: 20140926-5005.

Comments Due: 5 p.m. ET 10/17/14.

Docket Numbers: ER14-2944-000.

Applicants: NorthWestern Corporation.

Description: Initial rate filing per 35.12 SA 724 Utilities Agreement with Montana DOT re Kershaw Turn Lanes Project to be effective 11/25/2014.

Filed Date: 9/26/14.

Accession Number: 20140926-5117.

Comments Due: 5 p.m. ET 10/17/14.

Docket Numbers: ER14-2945-000.

Applicants: Roundtop Energy LLC.

Description: Initial rate filing per 35.12 Roundtop Energy LLC MBR Tariff Application to be effective 11/25/2014.

Filed Date: 9/26/14.

Accession Number: 20140926-5118.

Comments Due: 5 p.m. ET 10/17/14.

Docket Numbers: ER14-2946-000.

Applicants: PJM Interconnection, L.L.C.

Description: § 205(d) rate filing per 35.13(a)(2)(iii): Original Service Agreement No. 3939; Queue Z2-019 to be effective 8/28/2014.

Filed Date: 9/26/14.

Accession Number: 20140926-5122.

Comments Due: 5 p.m. ET 10/17/14.

Docket Numbers: ER14-2947-000.

Applicants: NorthWestern Corporation.

Description: § 205(d) rate filing per 35.13(a)(2)(iii): SA 605 Second Revised—NITSA with Bonnevilla Power Administration to be effective10/1/2014.

Filed Date: 9/26/14.

Accession Number: 20140926-5144.

Comments Due: 5 p.m. ET 10/17/14.

Docket Numbers: ER14-2948-000.

Applicants: Tucson Electric Power Company.

Description: § 205(d) rate filing per 35.13(a)(2)(iii): Gila River Power Station Ownership Agreement to be effective 11/25/2014.

Filed Date: 9/26/14.

Accession Number: 20140926-5145.

Comments Due: 5 p.m. ET 10/17/14.

Docket Numbers: ER14-2949-000.

Applicants: Puget Sound Energy, Inc.

Description: Initial rate filing per 35.12 Air Products TX Interconnection, NITSA & NOA Agreements to be effective 9/1/2014.

Filed Date: 9/26/14.

Accession Number: 20140926-5147.

Comments Due: 5 p.m. ET 10/17/14.

Docket Numbers: ER14-2950-000.

Applicants: Midcontinent Independent System Operator, ALLETE, Inc.

Description: § 205(d) rate filing per 35.13(a)(2)(iii): 2014-09-26_SA 2700 Great Northern Transmission Line MPFCA to be effective 11/25/2014.

Filed Date: 9/26/14.

Accession Number: 20140926-5148.

Comments Due: 5 p.m. ET 10/17/14.

Docket Numbers: ER14-2951-000.

Applicants: Wisconsin Electric Power Company.

Description: § 205(d) rate filing per 35.13(a)(2)(iii): FERC Electric Tariff Rate Schedule No. 122 to be effective12/1/2014.

Filed Date: 9/26/14.

Accession Number: 20140926-5150.

Comments Due: 5 p.m. ET 10/17/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 26, 2014.
Nathaniel J. Davis, Sr.,
Deputy Secretary.

[FR Doc. 2014-23619 Filed 10-2-14; 8:45 am]

BILLING CODE 6717-01-P